DEPARTMENT OF ENERGY

Federal Energy Regulatory Commission

[Docket No. RM98-1-000]

Regulations Governing Off-the-Record Communications; Public Notice

October 20, 2000.

This constitutes notice, in accordance with 18 CFR 385.220(h), of the receipt of exempt and prohibited off-the-record communications.

Order No. 607 (64 FR 51222, September 22, 1999) requires Commission decisional employees, who make or receive an exempt or a prohibited off-the-record communication relevant to the merits of a contested on-the-record proceeding, to deliver a copy of the communication, if written, or a summary of the substance of any oral communication, to the Secretary.

Prohibited communications will be included in a public, non-decisional file associated with, but not part of, the decisional record of the proceeding. Unless the Commission determines that the prohibited communication and any responses thereto should become part of the decisional record, the prohibited off-the-record communication will not be considered by the Commission in reaching its decision. Parties to a proceeding may seek the opportunity to respond to any facts or contentions made in a prohibited off-the-record communication, and may request that the Commission place the prohibited communication and responses thereto in the decisional record. The Commission will grant such requests only when it determines that fairness so requires. Any person identified below as having made a prohibited off-the-record communication should serve the document on all parties listed on the official service list for the applicable proceeding in accordance with Rule 2010, 18 CFR 385.2010.

Exempt off-the-record communications will be included in the decisional record of the proceeding, unless the communication was with a cooperating agency as described by 40 CFR 1501.6, made under 18 CFR 385.2201(e)(1)(v).

The following is a list of exempt and prohibited off-the-record communications received in the Office of the Secretary within the preceding 14 days. The documents may be viewed on the Internet at http://www.ferc.fed.us/online/rims.htm (call 202-208-2222 for assistance).

Exempt

1. Project No. 459-109, 10/6/00, Mohamad Fayyad

2. CP00-232-000, 10/4/00, John T. Pierpont

3. Project Nos. 20-019, 2401-007 and 472-017, 10/3/00, The Honorable Make Crapo

4. Project No. 2142-031, 10/11/00, Jeff Reardon

5. CP00-40-002, 10/12/00, Michael A. Gato

6. CP00-14-000, et al, 10/16/00, John J. Wisniewski, FERC

7. CP00-6-000, 10/16/00, Jeff Shenot, FERC

8. CP00-6-000, 10/17/00, George Henderson

9. CP00-14-000, 10/17/00, John A. Ryan

10. CP00-14-000, 10/17/00, Joel A. Ivey

11. CP00-14-000, 10/17/00, Marthalee S. Beneduci and Alfred Beneduci

12. CP00-14-000, 10/17/00, William E. Moran

13. Project No. 1927-008, 10/18/00, Doug Hieken

14. CP00-36-000, 10/19/00, James R. Hartwig

15. CP00-36-000, 10/18/00, Laura de la Flor

16. Project No. 77-110, 10/19/00, Don L. Klima

17. CP00-232-000, 10/18/00, Betty Pryor

18. Project Nos. 10865 and 11495, 10/19/00, Don L. Klima

19. CP00-232-000, 10/18/00, John T. Pierpont

20. CP00-65-000, 10/20/00, David Densmore

Prohibited

1. CP99-579-000, et al., 10/11/00, Karen Burrows

David P. Boergers,
Secretary.

[FR Doc. 00-27484 Filed 10-25-00; 8:45 am]

BILLING CODE 6710-01-M